DEPARTMENT OF AGRICULTURE

Agricultural Marketing Service

[Doc. No. AMS-TM-15-0082]

Local Food Directories and Survey: Notice of Request for Revision of a Currently Approved Information Collection and To Merge the Collection of National Farmers Market Directory and Survey With Modules and Local Food Directories and Survey

AGENCY: Agricultural Marketing Service, USDA.

ACTION: Notice and request for comments.

SUMMARY: In accordance with the Paperwork Reduction Act of 1995 (44 U.S.C. Chapter 35), this notice announces the Agricultural Marketing Service's (AMS) intention to request approval from the Office of Management and Budget, for revision of two currently approved collections by merging them into a single information collection, titled “Local Food Directories and Survey”. AMS intends to combine collection 0581-0169, National Farmers Market Directory and Survey with Modules, and collection 0581-0289, Local Food Directories and Survey, and title it “Local Food Directories and Survey”. Merging the collections will allow for reduced input time for operators of multiple local food enterprises. All directories are national in scope and provide free advertising for producers of local agricultural products. The directories also assist customers to locate local food enterprises.

DATES: Comments on this notice must be received by March 21, 2016 to be assured of consideration.

ADDRESSES: Interested persons are invited to submit comments concerning this notice. Comments should be submitted online at www.regulations.gov or sent to Edward Ragland, Marketing Services Division, Transportation and Marketing Program, Agricultural Marketing Service, U.S. Department of Agriculture, 1400 Independence Ave. SW., Room 4509 South Building, Ag Stop 0269, Washington, DC 20250-0269.

All comments should be identified with the docket number (AMS-TM-15-0082), the date, and the page number of this issue of the Federal Register. All comments received will be posted without change, including any personal information provided, online at http://www.regulations.gov and will be made available for public inspection during regular business hours at the above physical address from 9 a.m. to 12 noon and from 1 p.m. to 4 p.m., Monday through Friday, (except official Federal holidays). Persons wanting to visit the USDA South Building to view comments received are requested to make an appointment in advance by calling (202) 720-8317.

FOR FURTHER INFORMATION CONTACT: Edward Ragland, Marketing Services Division, Transportation and Marketing Program, Agricultural Marketing Service, U.S. Department of Agriculture, 1400 Independence Ave. SW., Room 4509 South Building, Ag Stop 0269, Washington, DC 20250-0269; Tel. 202-720-8317 FAX 202-690-0031. Comments should reference Docket No. AMS-TM-15-0082.

SUPPLEMENTARY INFORMATION: Title: Local Food Directories and Survey

OMB Number: 0581-0169

Expiration Date of Approval: April 30, 2016

Type of Request: Revision and merger of a currently approved information collection.

Abstract: Under the Agricultural Marketing Act of 1946, as amended (7 U.S.C. 1621 et seq.), AMS is responsible for conducting research to enhance market access for small and medium sized farmers. The role of the Marketing Services Division (MSD) of AMS is to facilitate distribution of U.S. agricultural products. The division identifies marketing opportunities, provides analysis to help take advantage of those opportunities, and develops and evaluates solutions, including improving farmers markets and other direct-to-consumer marketing activities. Various types of direct to customer local food enterprises serve different parts of the food marketing chain but all focus on the small-to medium-sized agricultural producers that have difficulty obtaining access to large scale commercial distribution channels. Information has been collected by the MSD periodically about the size and growth of markets, farmers served, products sold, sales, and management structure to better monitor how this marketing channel changes over time and the impact farmers markets have on the farming community nationwide.

Merging the two collection instruments would allow sharing of contact information across the two information collections which will reduce input time for operators of multiple local food enterprises. It will also allow AMS to more efficiently manage the collection and prevent duplication of burden. The definitions of on-farm market, community-supported agriculture, (CSA) and food hub are listed below.

Farmers market information collected serves dual purposes. This information is used to populate USDA's National Farmers Market Directory, and periodically, market managers are invited to participate in a comprehensive survey evaluating the farmers market sector. Collecting data for multiple purposes increases response rates, reduces duplicity in information collected by AMS, and adds convenience for AMS.

The collection incorporates advanced GIS mapping capability, which provides the ability to immediately stratify the respondents and direct them to the survey modules relevant to their characteristics. The data-driven nature of the collection and the use of modules minimizes the time necessary for respondents to complete the questionnaire. Topic areas in USDA's National Farmers Market Managers Survey include: characteristics and history of farmers markets, types of products sold, including fresh, locally-grown produce, location of the markets, programs to encourage healthy eating, special events, marketing methods, participation in federal programs designed to increase consumption of fresh fruits and vegetables, vendor retention and recruitment, market growth and enhancement, contribution to economic development, awareness and participation in grant and educational programs, what information farmers market managers have or how they derive estimates of the number of customers, sales, number of vendors, and vendor characteristics.

An on-farm market is an area of a facility affiliated with a farm where transactions between a farm market operator and customers take place. An on-farm market may operate seasonally or year-round. On-farm markets are an important component of direct marketing, adding value by offering customers a visit to the farm and the opportunity to purchase products from the people who grew them.

A CSA is another type of food-production and direct marketing relationship between a farmer or farmers and a group of consumers who purchase “shares” of the season's harvest in advance of the growing season. The up-front working capital generated by selling shares reduces the financial risk to the farmer(s). Generally; farmers receive better prices for their crops and, have reduced marketing costs. Consumers benefit by receiving weekly delivery of fresh locally-grown fruits, vegetables, meats, eggs and other produce. They also benefit from the ability to collectively support the sustainability of local farmers.

A Food hub is a business or organization that actively manages the aggregation, distribution, and marketing of source-identified food products primarily from local and regional producers to strengthen their ability to satisfy wholesale, retail, and institutional demand. This marketing channel also allows farm operators to capture a larger share of consumers' food dollar.

On-farm markets, CSA, as well as food hubs, comprise an integral part of the urban/farm linkage and have continued to rise in popularity, mostly due to the growing consumer interest in obtaining fresh products directly from the farm. The use of these marketing channels has enabled farmers to receive a larger share of the consumer's food dollar. On-farm markets, CSA, and food hubs allow consumers to have access to locally grown, farm fresh produce, enable farmers the opportunity to develop a personal relationship with their customers, and cultivate consumer loyalty with the farmers. They are also providing greater access to fresh locally grown fruits and vegetables, as well as playing an increasing role in encouraging healthier eating.

For Merged Local Food Directories and Survey—0581-0169

Estimate of Burden: Public reporting burden for this combined collection of information is estimated to average 0.183 hours per response.

Respondents: Farmers market managers, farm operators that operate on-farm stores, operators of CSA, farm operations, and operators of food hubs.

Estimated Number of Respondents: 62,250

Estimated Total Annual Responses: 6,500

Estimated Number of Responses per Respondent: .104

Estimated Total Annual Burden on Respondents: 1,187 hours.

For Local Food Directories and Survey—0581-0289

Estimate of Burden: Public reporting burden for this collection of information is estimated to average 0.167 hours per response.

Respondents: Farm operators that operate on-farm stores, operators of CSA, farm operations, and operators of food hubs.

Estimated Number of Respondents: 56,750 respondents

Estimated Total Annual Responses: 2,125 responses

Estimated Number of Responses per Respondent: .037 responses

Estimated Total Annual Burden on Respondents: 355 hours

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. All responses to this notice will be summarized and included in the request for OMB approval. All comments will become a matter of public record.

Dated: January 13, 2016.
Rex A. Barnes,
Associate Administrator, Agricultural Marketing Service.

[FR Doc. 2016-00859 Filed 1-19-16; 8:45 am]

BILLING CODE 3410-02-P